DEPARTMENT OF ENERGY

Federal Energy Regulatory Commission

[Docket No. EC00-96-000, et al.]

P&L Coal Holdings Corporation, et al.; Electric Rate and Corporate Regulation Filings

May 30, 2000.

Take notice that the following filings have been made with the Commission:

1. P&L Coal Holdings Corporation; Citizens Power LLC; Citizens Power Holdings One, LLC; FC Energy Finance I, Inc.

[Docket No. EC00-96-000]

Take notice that on May 23, 2000, P&L Coal Holdings Corporation, Citizens Power LLC, Citizens Power Holdings One, LLC, and FC Energy Finance I, Inc. filed an application for an order authorizing the proposed sale of equity interests in Hartford Power Sales, L.L.C., CL Power Sales One, L.L.C., CL Power Sales Two, L.L.C., CL Power Sales Six, L.L.C., CL Power Sales Seven, L.L.C., CL Power Sales Eight, L.L.C., CL Power Sales Nine, L.L.C., and CL Power Sales Ten, L.L.C. to FC Energy Finance I, Inc. or a subsidiary thereof.

Comment date: June 22, 2000, in accordance with Standard Paragraph E at the end of this notice.

2. Merchant Energy Group of the Americas, Inc.

[Docket No. ER00-2210-001]

Take notice that on May 24, 2000, Merchant Energy Group of the Americas, Inc. (MEGA) tendered for filing a substitute amended FERC Electric Rate Schedule No. 1 to revise the rate schedule filing made by MEGA on April 14, 2000, in Docket No. ER00-2210-000. The substitute amended rate schedule retains the prohibition on sales to affiliate public utilities with a franchised service territory and makes other minor word changes.

Comment date: June 14, 2000, in accordance with Standard Paragraph E at the end of this notice.

3. Virginia Electric and Power Company

[Docket No. ER00-2595-000]

Take notice that on May 25, 2000, Virginia Electric and Power Company (Virginia Power), tendered for filing the following:

1. Service Agreement for Firm Point-to-Point Transmission Service by Virginia Electric and Power Company to Public Service Company of Colorado;

2. Service Agreement for Non-Firm Point-to-Point Transmission Service by Virginia Electric and Power Company to Public Service Company of Colorado.

The foregoing Service Agreements are tendered for filing under the Open Access Transmission Tariff to Eligible Purchasers dated July 14, 1997. Under the tendered Service Agreements, Virginia Power will provide point-to-point service to the Transmission Customer under the rates, terms and conditions of the Open Access Transmission Tariff. Virginia Power requests an effective date of May 25, 2000, the date of filing of the Service Agreements.

Copies of the filing were served upon Public Service Company of Colorado, the Virginia State Corporation Commission, and the North Carolina Utilities Commission.

Comment date: June 15, 2000, in accordance with Standard Paragraph E at the end of this notice.

4. Indianapolis Power & Light Company

[Docket No. ER00-2594-000]

Take notice that on May 25, 2000, Indianapolis Power & Light Company (IPL), tendered for filing various service agreements under IPL's Open Access Transmission Tariff placing itself and others as customers under the Tariff, and an index of customers.

Comment date: June 15, 2000, in accordance with Standard Paragraph E at the end of this notice.

5. Wisconsin Electric Power Company

[Docket No. ER00-2593-000]

Take notice that on May 25, 2000, Wisconsin Electric Power Company (Wisconsin Electric), tendered for filing an electric service agreement under its Market Rate Sales Tariff (FERC Electric Tariff, Original Volume No. 8) with British Columbia Power Exchange Corporation.

Wisconsin Electric respectfully requests an effective date of May 22, 2000 to allow for economic transactions.

Copies of the filing have been served on British Columbia Power Exchange Corporation, the Michigan Public Service Commission, and the Public Service Commission of Wisconsin.

Comment date: June 15, 2000, in accordance with Standard Paragraph E at the end of this notice.

6. Black Hills Corporation

[Docket No. ER00-2576-000]

Take notice that on May 23, 2000, Black Hills Corporation, which operates its electric utility business under the assumed name of Black Hills Power and Light Company (Black Hills), tendered for filing an executed Network Integration Transmission Service Agreement with the State of South Dakota.

Copies of the filing were provided to the regulatory commission of each of the states of South Dakota, Wyoming and Montana.

Black Hills has requested that further notice requirement be waived and the tariff and executed service agreements be allowed to become effective June 1, 2000.

Comment date: June 13, 2000, in accordance with Standard Paragraph E at the end of this notice.

7. Duquesne Light Company

[Docket No. ER00-2342-001]

Take notice that on May 26, 2000, Duquesne Light Company (Duquesne) tendered for filing an amendment to its Open Access Transmission Tariff, filed with the Commission on April 28, 2000 in Docket No. ER00-2342-000.

Comment date: June 16, 2000, in accordance with Standard Paragraph E at the end of this notice.

8. Wisconsin Energy Corporation Operating Companies

[Docket No. ER00-1319-002]

On March 28, 2000, the Commission issued an “Order Accepting for Filing and Suspending Proposed Rates, Requiring Compliance Filing, Accepting Revisions to Open Access Tariff and Establishing Hearing Procedures” in the above-docketed proceeding (March 28 Order). Requests for Rehearing were due to be filed on or before April 27, 2000. On April 28, 2000, Wisconsin Energy Corporation Operating Companies (Wisconsin Energy) filed a Request for Rehearing.¹

¹ Wisconsin Energy also asked for reconsideration of the March 28 Order. This notice does not address the request for reconsideration.

Section 313(a) of the Federal Power Act ² requires an aggrieved party to file a request for rehearing within thirty days after the issuance of the Commission's order. Because the 30-day deadline for requesting rehearing is statutorily based, it cannot be extended and Wisconsin Energy's request for rehearing must be rejected as untimely.

² 16 U.S. C. § 8251.

Standard Paragraphs

E. Any person desiring to be heard or to protest such filing should file a motion to intervene or protest with the Federal Energy Regulatory Commission, 888 First Street, NE, Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-14118 Filed 6-5-00; 8:45 am]

BILLING CODE 6717-01-P